DEPARTMENT OF COMMERCE

National Oceanic and Atmospheric Administration

Hydrographic Services Review Panel Meeting, February 28-March 2, 2023

AGENCY: Office of Coast Survey, National Ocean Service (NOS), National Oceanic and Atmospheric Administration (NOAA), Department of Commerce.

ACTION: Notice of public meeting and opportunity to comment.

SUMMARY: This serves as the notice of a public meeting for the NOAA Hydrographic Services Review Panel (HSRP) on February 28, 2023, 9 a.m.-5:30 p.m., Atlantic Standard Time (AST), March 1, 2023, 8:30 a.m.-12 p.m. AST, and March 2, 2023 8:30 a.m.-5 p.m. AST. The agenda for the HSRP public meeting will be posted in advance of the meeting on the HSRP website. Individuals or groups who want to comment on NOAA navigation services topics are encouraged to submit advance public comments via email or via the question function in the webinar for the HSRP public meeting.

1. February 28, 2023, 9 a.m.-5:30 p.m. AST

2. March 1, 2022, 8:30 a.m.-12 p.m. AST

3. March 2, 2022, 8:30 a.m.-5 p.m. AST

ADDRESSES: Instructions for how to register to attend the HSRP public meeting in person and virtually may be found at the following website: https://register.gotowebinar.com/register/6410170809731828061. The HSRP public meeting agenda, draft meeting documents, presentations, and background materials are posted and updated online and can be found at the following websites:

https://www.nauticalcharts.noaa.gov/hsrp/hsrp.html and https://www.nauticalcharts.noaa.gov/hsrp/meetings.html. The agenda is subject to change. Past HSRP recommendation letters, issue and position papers may be found online at: https://www.nauticalcharts.noaa.gov/hsrp/recommendations.html.

Comments may be submitted by one of the following methods: Email: Send written comments in advance of the HSRP public meeting to Virginia.Dentler@noaa.gov, Melanie.Colantuno@noaa.gov, and hydroservices.panel@noaa.gov, with “February-March 2023 HSRP meeting public comments” in the subject line of the email message. Webinar: Submit written comments during the HSRP public meeting through the HSRP webinar's question function.

FOR FURTHER INFORMATION CONTACT: Lynne Mersfelder-Lewis, HSRP Program Manager, Office of Coast Survey, NOS, NOAA, email: hydroservices.panel@noaa.gov, Lynne.Mersfelder@noaa.gov, and phone 302-648-2963.

SUPPLEMENTARY INFORMATION: The Hydrographic Services Improvement Act of 1998 (HSIA), as amended (33 U.S.C. 892 et seq.), established the HSRP as a Federal Advisory Committee (33 U.S.C. 892c) to advise the NOAA Administrator “on matters related to the responsibilities and authorities set forth in [33 U.S.C. 892a]” of the HSIA, “and such other matters as the Administrator refers to the [HSRP] for review and advice.

The HSRP regularly discusses stakeholder's feedback and NOAA invites public comments in advance and during the upcoming HSRP public meeting on the use of NOAA's navigation, observations and positioning data, science, products, and services for NOS's Center for Operational Oceanographic Products and Services, National Geodetic Survey, Office of Coast Survey, and the University of New Hampshire's and NOAA's Joint Hydrographic Center at the Center for Coastal and Ocean Mapping. Public comments sent in advance of the HSRP public meeting will be shared with the HSRP members, posted on the meeting website, and included in the public record for the meeting. Due to the condensed nature of the meeting, each individual or group providing written public comments will be limited to one comment of three minutes per public comment period, with no repetition of previous comments. Individuals and groups may also submit public comments during the public comment period through the webinar's question function. Comments will be read into the record as time allows and will become part of the meeting record. Due to time constraints, all comments may not be addressed during the meeting.

Matters To Be Considered

The HSRP members will focus on the mission and issues relevant to NOAA's navigation, observations, and positioning services, and the value these services bring, and invite stakeholder and partner suggestions for improvements. This suite of NOAA services supports safe and efficient navigation, the blue economy, resilient coasts and communities, and the nationwide positioning information infrastructure to support America's climate needs and commerce. Specifically, the HSRP will consider:

• The status of NOAA's navigation services in the context of recent legislation (e.g., the National Defense Authorization Act, Bipartisan Infrastructure Law, and Inflation Reduction Act);

• An update on the new Standard Ocean Mapping Protocol and the plans to address and implement the ocean and coastal mapping strategy for “Establishing a National Strategy for Mapping, Exploring, and Characterizing the United States Exclusive Economic Zone”;

• Measuring, monitoring, and mitigating flooding and sea level change and the contribution of NOAA's critical foundational data to projects in the U.S. Caribbean;

• NOAA navigation data, products, and services that will enable further economic growth and address safe navigation;

• The geodesy education and training crisis;

• The exploration of possible benefits and applicability of the new Digital Twin technology to help manage coastal mapping data, maritime navigation, fleet management and related applications. The Digital Twin utilizes artificial intelligence, deep learning, data analytics and modeling to maximize use of tremendous amounts of data;

• Other topics related to the NOAA programs and activities may be discussed such as those for: hydrographic surveys, bathymetric mapping and modeling, nautical charting, coastal shoreline and ocean mapping, the National Spatial Reference System modernization efforts, tide and water level observations, current observations, contributions to resilience and coastal data and information systems to support planning for climate change, flooding, inundation, contributions to the blue economy, coastal and ocean modeling and remote sensing, PORTS® (Physical Oceanographic Real-Time System) sensor enhancements and expansion, Precision Marine Navigation, the transition from raster paper charts to Electronic Navigational Charts, geodetic observations, gravity modeling, geospatial and LIDAR data; and

• The scientific mapping and technology research projects of the cooperative agreements between NOAA and partners at the University of New Hampshire and the University of South Florida.

Special Accommodations

This public meeting is accessible to people with disabilities and there will be sign language interpretation and captioning services. Please direct requests for other auxiliary aids to Melanie.Colantuno@noaa.gov at least 10 business days in advance of the meeting.

Benjamin K. Evans,
Rear Admiral (lower half), Director, Office of Coast Survey, National Ocean Service, National Oceanic and Atmospheric Administration.

[FR Doc. 2023-03449 Filed 2-16-23; 8:45 am]

BILLING CODE 3510-JE-P